DEPARTMENT OF THE INTERIOR

National Park Service

[N6914; NPS-WASO-NAGPRA-NPS0041987; PPWOCRADN0-PCU00RP14.R50000]

Notice of Intended Repatriation: Mount Holyoke College Art Museum, South Hadley, MA

AGENCY: National Park Service, Interior.

ACTION: Notice.

SUMMARY: In accordance with the Native American Graves Protection and Repatriation Act (NAGPRA), the Mount Holyoke College Art Museum intends to repatriate certain cultural items that meet the definition of unassociated funerary objects and that have a cultural affiliation with the Indian Tribes or Native Hawaiian organizations in this notice.

DATES: Repatriation of the cultural items in this notice may occur on or after March 13, 2026.

ADDRESSES: Send additional, written requests for repatriation of the cultural items in this notice to Abigail Hoover, Associate Director of Registration and Collections, Mount Holyoke College Art Museum, Lower Lake Road, South Hadley, MA 01075, email ahoover@mtholyoke.edu.

SUPPLEMENTARY INFORMATION: This notice is published as part of the National Park Service's administrative responsibilities under NAGPRA. The determinations in this notice are the sole responsibility of the Mount Holyoke College Art Museum, and additional information on the determinations in this notice, including the results of consultation, can be found in the summary or related records. The National Park Service is not responsible for the determinations in this notice.

Abstract of Information Available

A total of six cultural items have been claimed for repatriation. The six unassociated funerary objects are one adze, one pipe, one lot of beads, one lot of iron ore, one pipe, and one pipe bowl. The basalt adze was “found on an Indian grave on bank of the Connecticut River at Chicopee” and was donated to the Art Museum by Mrs. T. Chapin. The slate tobacco pipe is recorded as “found in a grave at Holyoke” and was given to the Museum by Mr. Joseph E. Chase. The one lot of beads are two strings of beads are recorded as “found on a grave at Depot Hill, Holyoke, MA” and were given to the Museum by Mr. Joseph E. Chase. They were later documented on a 1970 packing list, therefore they were acquired prior to 1970. The one lot of iron ore are two pieces of iron ore “from a grave on Depot Hill, Holyoke, MA” were given to the Museum by Mr. Joseph E. Chase. One piece of ore has a paper tag that reads “Jos. E. Chase.” The steatite (soapstone) pipe and pipe bowl are part of the Joseph Allen Skinner Museum collection, which is owned by the Trustees of Mount Holyoke College and overseen by the Mount Holyoke College Art Museum. This collection of 7,300 objects was amassed by the Museum's namesake (1862-1946) over a lifetime and displayed in his Museum in South Hadley, MA from its founding in 1932. Records indicate that the pipe and the pipe bowl were removed from their original locations in Springfield, Massachusetts. The pipe has a paper tag that reads “19 Long Hill.”

Determinations

The Mount Holyoke College Art Museum has determined that:

• The six unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Stockbridge Munsee Community, Wisconsin.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 13, 2026. If competing requests for repatriation are received, the Mount Holyoke College Art Museum must determine the most appropriate requestor prior to repatriation. Requests for joint repatriation of the cultural items are considered a single request and not competing requests. The Mount Holyoke College Art Museum is responsible for sending a copy of this notice to the Indian Tribes and/or Native Hawaiian organizations identified in this notice and to any other consulting parties.

Authority: Native American Graves Protection and Repatriation Act, 25 U.S.C. 3004 and the implementing regulations, 43 CFR 10.9.

Dated: February 4, 2026.
Melanie O'Brien,
Manager, National NAGPRA Program.

[FR Doc. 2026-02707 Filed 2-10-26; 8:45 am]

BILLING CODE 4312-52-P